DEPARTMENT OF HOUSING AND URBAN DEVELOPMENT

[Docket No. FR-5200-FA-11]

Announcement of Funding Awards; Fair Housing Initiatives Program Fiscal Year (FY) 2008

AGENCY: Office of the Assistant Secretary for Fair Housing and Equal Opportunity, HUD.

ACTION: Announcement of funding awards.

SUMMARY: In accordance with section 102(a)(4)(C) of the Department of Housing and Urban Development Reform Act of 1989, this announcement notifies the public of funding decisions made by the Department for funding under the Notice of Funding Availability (NOFA) for the Fair Housing Initiatives Program (FHIP) for FY2008. This announcement contains the names and addresses of those award recipients selected for funding based on the rating and ranking of all applications and the amount of the awards.

FOR FURTHER INFORMATION CONTACT: Myron Newry, Director, FHIP Division, Office of Programs, Office of Fair Housing and Equal Opportunity, Department of Housing and Urban Development, 451 7th Street, SW., Room 5230, Washington, DC 20410. Telephone number 202-402-7095 (this is not a toll-free number). Persons with hearing- or speech-impairments may access this number through TTY by calling the toll-free Federal Relay Service at 800-877-8339.

SUPPLEMENTARY INFORMATION: Title VIII of the Civil Rights Act of 1968, as amended, 42 U.S.C. 3601-19 (the Fair Housing Act) provides the Secretary of Housing and Urban Development with responsibility to accept and investigate complaints alleging discrimination based on race, color, religion, sex, handicap, familial status or national origin in the sale, rental, or financing of most housing. In addition, the Fair Housing Act directs the Secretary to coordinate with State and local agencies administering fair housing laws and to cooperate with and render technical assistance to public or private entities carrying out programs to prevent and eliminate discriminatory housing practices.

Section 561 of the Housing and Community Development Act of 1987, 42 U.S.C. 3616, established FHIP to strengthen the Department's enforcement of the Fair Housing Act and to further fair housing. This program assists projects and activities designed to enhance compliance with the Fair Housing Act and substantially equivalent State and local fair housing laws. Implementing regulations are found at 24 CFR part 125.

The Department published its Fair Housing Initiatives Program (FHIP) NOFA on May 12, 2008 (73 FR 27118), announcing the availability of approximately $22.8 million authorized by the Consolidated Appropriations Act 2008 (Pub. L. 110-161, approved December 26, 2007), to be utilized for FHIP projects and activities. Funding availability for discretionary grants included: the Private Enforcement Initiative (PEI) ($19 million), the Education and Outreach Initiative (EOI) ($2.8 million), and the Fair Housing Organizations Initiative (FHOI) ($1 million).

This Notice announces grant awards of approximately $22.8 million, and funding for Fair Housing Accessibility First (FIRST) training. FIRST is a major training initiative to assist architects, builders, disability advocates and others with understanding how to design and construct multifamily housing that complies with the Act. For the FY 2008 NOFA, the Department reviewed, evaluated and scored the applications received based on the criteria in the NOFA. As a result, HUD has funded the applications announced in Appendix A, and in accordance with section 102(a)(4)(C) of the Department of Housing and Urban Development Reform Act of 1989 (103 Stat. 1987, 42 U.S.C. 3545), the Department is hereby publishing details concerning the recipients of funding awards in Appendix A of this document.

The Catalog of Federal Domestic Assistance Number for currently funded Initiatives under the Fair Housing Initiatives Program is 14.408.

Dated: September 13, 2011.
John D. Trasviña,
Assistant Secretary for Fair Housing and Equal Opportunity.

Appendix A—FY2008 Fair Housing Initiatives Program Awards
Applicant name | Contact | Region | Award amt.
Education and Outreach Initiative/General Component
Champlain Valley Office of Economic Opportunity: 191 North Street, Burlington, VT 05402 | (802) 864-3334 | 1 | $100,000.00
Buffalo Urban League, Inc.: 15 E. Genesee Street, Buffalo, NY 14203 | (716) 854-7625 | 2 | 90,000.00
New Jersey Citizen Action: 744 Broad Street, Newark, NJ 07102 | (973) 643-8800 | 2 | 100,000.00
New York Agency for Community Affairs: 2-4 Nevins Street, 2nd Floor, Brooklyn, NY 11217 | (718) 246-7900 | 2 | 99,427.00
Neighborhood Economic Development Advocacy Project, Inc.: 73 Spring Street, Suite 506, New York, NY 10012 | (212) 680-5100 | 2 | 100,000.00
Housing Counseling Services: 2440 17th Street, NW, Washington, DC 20009 | (202) 667-7006 | 3 | 100,000.00
Equal Rights Center: 11 DuPont Circle, NW, Washington, DC 20036 | (202) 289-5360 | 3 | 100,000.00
St. Martin Center, Inc.: 1701 Parade Street, Erie, PA 16503 | (814) 452-6113 | 3 | 100,000.00
Piedmont Housing Alliance: 111 Monticello Avenue, Ste. 104, Charlottesville, VA 22902 | (434) 817-2436 | 3 | 62,217.00
Mid-Florida Housing Partnership, Inc.: 1834 Mason Avenue, Daytona Beach, FL 32117 | (368) 274-4441 | 4 | 100,000.00
Legal Services of North Florida: 2119 Delta Boulevard, Tallahassee, FL 32303 | (850) 385-9007 | 4 | 40,810.00
Prairie State Legal Services, Inc.: 975 N. Main Street, Rockford, IL 61102 | (630) 690-2130 | 5 | 100,000.00
Garland Fair Housing Office: 210 Carver Drive, Ste. 102 A, Garland, TX 75040 | (972) 205-3316 | 6 | 100,000.00
Iowa Civil Rights Commission: Grimes State Office Building, Des Moines, Iowa 50319 | (515) 281-9086 | 7 | 67,126.00
ACORN Associates: 953 E. Sahara Avenue, #D-18, Las Vegas, NV 89104 | (702) 699-5530 | 9 | 99,974.00
Mental Health Advocacy Services, Inc.: 3255 Wilshire Boulevard, Suite 902, Los Angeles, CA 90010 | (213) 389-2077 | 9 | 99,800.00
Legal Aid Services of Oregon: 921 SW Washington Street, Ste. 570, Portland, OR 97205 | (503) 224-4094 | 10 | 100,000.00
Education and Outreach Initiative/Clinical Law Component
Howard University: 576 W Streets, NW., Washington, DC 20059 | (202) 806-5567 | 3 | 312,621.00
Education and Outreach Initiative/National Media Campaign Component
National Fair Housing Alliance: 1212 New York Avenue, NW., Suite 525, Washington, DC 20005 | (202) 898-1661 | 3 | 999,847.00
Private Enforcement Initiative/General Component
Pine Tree Legal Assistance, Inc.: 88 Federal Street, Portland, ME 04112 | (207) 774-4753 | 1 | 275,000.00
New Hampshire Legal Assistance: 117 North State Street, Concord, NH 03301 | (603) 206-2221 | 1 | 223,556.93
Connecticut Fair Housing Center, Inc.: 221 Main Street, Hartford, CT 06106 | (860) 247-4400 | 1 | 275,000.00
Vermont Legal Aid, Inc.: 264 North Winooski Avenue, Burlington, VT 05401 | (802) 885-5181 | 1 | 275,000.00
Legal Assistance Corporation of Central Massachusetts: 405 Main Street, Worchester, MA 01608 | (508) 752-3718 | 1 | 232,000.00
Legal Assistance of Western New York, Inc.: 1 West Main Street, Rochester, NY 14614 | (585) 295-5610 | 2 | 197,500.00
Westchester Residential Opportunities, Inc.: 470 Mamarock Avenue, White Plains, NY 10605 | (914) 428-4507 | 2 | 261,895.00
HELP Social Services Corporation: 5 Hanover Square, New York, NY 10004 | (212) 400-8280 | 2 | 274,995.00
National Community Reinvestment Coalition: 727 15th Street, NW., Washington, DC 20005 | (202) 628-8866 | 3 | 230,000.00
Community Legal Aid Society, Inc.: 100 West 10th Street, Ste. 801, Wilmington, DE 19801 | (707) 224-9720 | 3 | 274,621.00
Fair Housing Partnership of Greater Pittsburgh, Inc.: 2840 Liberty Avenue, Pittsburgh, PA 15222 | (412) 391-2535 | 3 | 275,000.00
Fair Housing Continuum, Inc.: 4085 Hwy. US1, Ste.101, Rockledge, FL 32955 | (321) 633-4551 | 4 | 275,000.00
Metro Fair Housing Services, Inc.: 1514 East Cleveland Avenue, Ste. 118, East Point, GA 30344 | (404) 765-3965 | 4 | 271,248.00
Mobile Fair Housing Center, Inc.: P.O. Box 161202, Mobile, AL 36616 | (251) 479-1532 | 4 | 275,000.00
Community Legal Services of Mid-Florida, Inc.: 128 Orange Avenue, Daytona Beach, FL 32114 | (386) 255-6573 | 4 | 275,000.00
Housing Opportunities Project for Excellence, Inc.: Miami-Gardens, FL 33169 | (305) 651-4673 | 4 | 275,000.00
Legal Aid Society of Palm Beach County, Inc.: 423 Fern Street, Ste. 200, West Palm Beach, FL 33401 | (561) 655-8944 | 4 | 120,628.72
Legal Aid and Defender Association, Inc.: 613 Abbott Street, Detroit, MI 48226 | (313) 967-5607 | 5 | 275,000.00
Interfaith Housing Center of Northern Suburbs: 620 Lincoln Avenue, Winnetka, IL 60093 | (847) 501-5760 | 5 | 186,403.00
Fair Housing Center of Southwest Michigan: 410 E. Michigan, Kalamazoo, MI 49007 | (269) 276-9100 | 5 | 162,225.00
Fair Housing Contact Service: 441 Wolf Ledge Parkway, Ste. 200, Akron, OH 44311 | (330) 376-6191 | 5 | 275,000.00
Legal Services of Eastern Michigan: 436 Saginaw Street, Flint, MI 48502 | (810) 234-2621 | 5 | 208,561.00
Metropolitan Fair Housing Council: 1500 NE 4th Street, Oklahoma, OK 73117 | (405) 232-3247 | 6 | 274,900.00
Greater Houston Fair Housing Center, Inc.: P. O. Box 292, Houston, TX 77001 | (713) 641-3247 | 6 | 275,000.00
Greater New Orleans Fair Housing Action Center: 228 St. Charles Avenue, New Orleans, LA 70130 | (617) 399-0491 | 6 | 275,000.00
Arizona Fair Housing Center: 615 N 5th Avenue, Phoenix, AZ 85003 | (602) 548-1599 | 9 | 275,000.00
Southern California Housing Rights Center: 520 South Virgil Avenue, Los Angeles, CA 90020 | (213) 387-8400 | 9 | 275,000.00
Greater Napa Fair Housing Center: 601 Cabot Way, Napa, CA 94559 | (707) 224-9720 | 9 | 120,000.00
Orange County Fair Housing Council: 201 S. Broadway, Santa Ana, CA 92701 | (714) 569-0823 | 9 | 175,000.00
Fair Housing Council of Oregon: 1020 SW., Taylor Street, Ste. 700, Portland, OR 97205 | (503) 402-1157 | 10 | 275,000.00
Intermountain Fair Housing Council, Inc.: 350 N 9th Street, Ste. M 200, Boise, ID 83702 | (208) 383-0695 | 10 | 274,796.00
Private Enforcement Initiative/Performance-Based Component
Fair Housing Center of Greater Boston: 59 Temple Place, Ste. 1105, Boston, MA 02111 | (617) 399-0491 | 1 | 274,750.00
Housing Discrimination Project: 57 Suffolk Street, Holyoke, MA 01040 | (413) 539-9796 | 1 | 275,000.00
Housing Opportunities Made Equal, Inc.: 700 Main Street, 3rd Floor, Buffalo, NY 14202 | (716) 854-1400 | 2 | 263,846.33
Fair Housing Council of Northern New Jersey: 131 Main Street, Hackensack, NJ 07601 | (201) 482-3552 | 2 | 275,000.00
South Brooklyn Legal Services, Inc.: 105 Court Street, Brooklyn, NY 11201 | (718) 237-5667 | 2 | 183,333.00
Fair Housing Council of New York, Inc.: 327 W Fayette Street, Ste. 40, Syracuse, NY 13202 | (315) 471-0420 | 2 | 211,346.00
Long Island Housing Services, Inc.: 3900 Veterans Memorial Hwy. Ste. 251, New York, NY 11761 | (613) 467-5111 | 2 | 270,417.00
Fair Housing Council of Suburban Philadelphia, Inc.: 225 South Chester Road, Ste. 1, Swarthmore, PA 19081 | (610) 604-4411 | 3 | 274,817.66
Fair Housing Rights Center in Southeastern Pennsylvania: 105 E. Glenside Avenue, East Glenside, PA 19038 | (215) 576-7711 | 3 | 275,000.00
Tennessee Fair Housing Council, Inc.: 107 Music City Circle, Nashville, TN 60430 | (615) 874-2344 | 4 | 275,000.00
West Tennessee Legal Services, Inc.: 210 West Main Street, Jackson, TN 38301 | (731) 426-1311 | 4 | 275,000.00
Jacksonville Area Legal Aid, Inc.: 126 West Adam Street, Jacksonville, FL 32202 | (904) 356-8371 | 4 | 274,751.66
Lexington Fair Housing Council, Inc.: 207 E Reynolds Road, Ste. 130, Lexington, KY 40517 | (859) 971-8067 | 4 | 260,476.66
Bay Area Legal Services, Inc.: 829 W MLK Jr. Blvd., Tampa, FL 33603 | (813) 232-1343 | 4 | 234,973.33
Central Alabama Fair Housing Center: 1817 West Second Street, Montgomery, AL 36106 | (334) 263-4663 | 4 | 274,000.00
Fair Housing Center of Northern Alabama: 1728 3rd Avenue, Birmingham, AL 35203 | (205) 324-0111 | 4 | 275,000.00
South Suburban Housing Center: 18220 Hardwood Avenue, Ste. 1, Homewood, IL 60430 | (708) 957-4674 | 5 | 273,505.00
Metropolitan Milwaukee Fair Housing Council, Inc.: 600 East Mason Street, Milwaukee, WI 53202 | (414) 278-1240 | 5 | 274,921.33
Fair Housing Center of Metropolitan Detroit: 124 Washington Blvd., Ste. 1312, Detroit, MI 48226 | (313) 963-1274 | 5 | 180,740.00
Fair Housing Center of West Michigan: 20 Hall Street SE., Grand Rapids, MI 49507 | (616) 451-2950 | 5 | 274,603.66
Fair Housing Resource Center, Inc.: 54 South State Street, Ste. 303, Painesville, OH 44077 | (440) 392-0147 | 5 | 275,000.00
Fair Housing Center of Southeastern Michigan: P.O. Box 7825, Ann Arbor, MI 48107 | (734) 994-3426 | 5 | 183,549.00
Housing Advocates, Inc.: 3214 Prospect Avenue East, Cleveland, OH 44115 | (216) 431-7400 | 5 | 275,000.00
HOPE Fair Housing Center: 2100 Manchester Road, Bldg. CC-1620, Wheaton, IL 60187 | (630) 690-6500 | 5 | 274,490.66
Legal Aid Society of Minneapolis: 430 First Avenue, Minneapolis, MN 55401 | (612) 234-5785 | 5 | 275,000.00
Housing Opportunities Made Equal of Greater Cincinnati: 2400 Reading Road, Cincinnati, OH 45202 | (513) 721-4663 | 5 | 273,815.40
Fair Housing Opportunities, Inc. dba Fair Housing Center: 432 North Superior, Toledo, OH 43604 | (419) 243-6163 | 5 | 275,000.00
Housing Research & Advocacy Center: 3631 Perkins Avenue, Cleveland, OH 44114 | (216) 426-9240 | 5 | 275,000.00
John Marshall Law School: 316 South Plymouth Court, Chicago, IL 60604 | (312) 982-1429 | 5 | 274,958.00
Access Living of Metropolitan Chicago: 115 West Chicago, Chicago, IL 60610 | (312) 226-5900 | 5 | 275,000.00
Miami Valley Fair Housing Center, Inc.: 21-23 East Babbitt, Dayton, OH 45405 | (937) 223-6035 | 5 | 275,000.00
Chicago Lawyers' Committee for Civil Rights Under Law, Inc.: 100 North LaSalle Street, Ste. 600, Chicago, IL 60602 | (312) 630-9744 | 5 | 274,994.00
San Antonio Fair Housing Council, Inc.: 4203 Woodcock Drive, Ste. 216, San Antonio, TX 78228 | (210) 733-3247 | 6 | 275,000.00
Austin Tenants Council, Inc.: 1640 B East 2nd Street, Austin, TX 78702 | (512) 474-7007 | 6 | 274,707.00
Family Housing Advisory Services, Inc.: 2401 Lake Street, Omaha, NE 08111 | (402) 934-6657 | 7 | 275,000.00
Metropolitan Saint Louis Equal Housing Opportunity Council: 1027 S Vandeventer, St. Louis, MO 63110 | (314) 534-5800 | 7 | 224,379.00
Fair Housing of the Dakotas: 533 Airport Road, Bismark, ND 58504 | (701) 221-2530 | 8 | 220,545.66
Legal Aid Society of Hawaii: 924 Bethel Street, Honolulu, HI 96813 | (808) 536-4302 | 9 | 275,000.00
Silver State Fair Housing Council: 855 E. Fourth Street, Ste. E, Reno, NA 89512 | (775) 324-0990 | 9 | 268,606.00
Fair Housing of Marin: 615 B Street, San Rafael, CA 94901 | (415) 457-5025 | 9 | 275,000.00
Inland Mediation Board: 60 East 9th Street, Upland, CA 91786 | (909) 984-2254 | 9 | 275,000.00
Southwest Fair Housing Council: 2030 Broadway Blvd., Ste. 101, Tucson, AZ 85719 | (520) 798-1568 | 9 | 270,144.00
Project Sentinel, Inc.: 430 Sherman Avenue, Palo Alto, CA 94306 | (415) 321-6291 | 9 | 270,000.00
California Rural Legal Assistance, Inc.: 531 Howard Street, Ste. 300, San Francisco, CA 94105 | (530) 742-7325 | 9 | 275,000.00
Bay Area Legal Aid: 405 14th Street, 9th Floor, Oakland, CA 94612 | (510) 250-5229 | 9 | 275,000.00
Fair Housing Center of Washington: 1517 S. Fawcett Street, Tacoma, WA 98402 | (253) 274-9523 | 10 | 275,000.00
Norwest Fair Housing Alliance: 36 West Main, Ste. 250, Spokane, WA 92201 | (590) 325-2665 | 10 | 275,000.00
Secretary-Initiated Projects/Contracts
Deloitte Consulting, LLP: 1676 International Dr., McClean, VA 22102-4828 | (703) 747-4230 | 3 | 798,583.00

[FR Doc. 2011-24291 Filed 9-21-11; 8:45 am]

BILLING CODE 4210-67-P